DEPARTMENT OF DEFENSE

Office of the Secretary

Proposed Collection; Comment Request

AGENCY: Office of the Secretary of Defense.

ACTION: Notice.

In compliance with Section 3506(c)(2)(A) of the Paperwork Reduction Act of 1995, the Washington Headquarters Services announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or forms of information technology.

DATES: Consideration will be given to all comments received by June 10, 2005.

ADDRESSES: Written comments and recommendations on the proposed information collection should be sent to the Department of Defense, Washington Headquarters Services, Pentagon Force Protection Agency, ATTN: Ms. Lillian Dockery, Room 1F1084, 9000 Defense Pentagon, Washington, DC 20301-9000.

FOR FURTHER INFORMATION CONTACT: To request more information on this proposed information collection or to obtain a copy of the proposal and associated collection instrument, please write to the above address, or call the Pentagon Access Control Division at (703) 697-9327.

Title; Associated Form; and OMB Number: DoD Building Pass Application; DD Form 2249; OMB Number 0704-0328.

Need and Uses: The information collection requirement is used by officials of Security Services, Pentagon Force Protection Agency, Washington Headquarters Services, to maintain a listing of personnel who are authorized a DoD Building Pass.

Affected Public: Individuals or households; business or other for-profit.

Annual Burden Hours: 12,000.

Number of Respondents: 120,000.

Responses per Respondent: 1.

Average Burden for Response: 6 minutes.

Frequency: On occasion.

SUPPLEMENTARY INFORMATION:

Summary of Information Collection

This requirement provides for the collection of information from applicants for Department of Defense (DoD) Building Passes. The information collected from the DD Form 2249, “DoD Building Pass Application,” is used to verify the need for and to issue a DoD Building Pass to DoD personnel, other authorized U.S. Government personnel, and DoD consultants and experts who regularly work in or require frequent and continuing access to DoD owned or occupied buildings in the National Capital Region.

Dated: April 1, 2005.
Patricia L. Toppings,
Alternate OSD Federal Register Liaison Officer, Department of Defense.

[FR Doc. 05-7124 Filed 4-8-05; 8:45 am]

BILLING CODE 5001-06-M